DEPARTMENT OF HEALTH AND HUMAN SERVICES

National Institutes of Health

National Center for Advancing Translational Sciences; Notice of Meeting

Pursuant to section 10(a) of the Federal Advisory Committee Act, as amended, notice is hereby given of a meeting of the Cures Acceleration Network Review Board.

The meeting will be open to the public as indicated below, viewing virtually by WebEx. Individuals can register to view and access the meeting by the link below.

https://nih.webex.com/nih/onstage/g.php?MTID=e56b929e2a7d82a92a5e58e040d7d103d

1. Go to “Event Status” on the left-hand side of page, then click “Register”. On the registration form, enter your information and then click “Submit” to complete the required registration.

2. You will receive a personalized email with the live event link.

Name of Committee: Cures Acceleration Network Review Board.

Date: January 16, 2020.

Time: 12:00 p.m. to 5:00 p.m.

Agenda: Report from the Institute Director.

Place: National Institutes of Health, One Democracy Plaza, 6701 Democracy Boulevard, Bethesda, MD 20892 (Virtual Meeting).

Contact Person: Anna L. Ramsey-Ewing, Ph.D., Executive Secretary, National Center for Advancing Translational Sciences, National Institutes of Health, One Democracy Plaza, Room 1072, Bethesda, MD 20892, 301-435-0809 anna.ramseyewing@nih.gov.

(Catalogue of Federal Domestic Assistance Program Nos. 93.859, Pharmacology, Physiology, and Biological Chemistry Research; 93.350, B—Cooperative Agreements; 93.859, Biomedical Research and Research Training, National Institutes of Health, HHS)

Dated: December 6, 2019.
Melanie J. Pantoja,
Program Analyst, Office of Federal Advisory Committee Policy.

[FR Doc. 2019-26711 Filed 12-11-19; 8:45 am]

BILLING CODE 4140-01-P